DEPARTMENT OF COMMERCE

National Institute of Standards and Technology

Judges Panel of the Malcolm Baldrige National Quality Award

AGENCY: National Institute of Standards and Technology, Department of Commerce.

ACTION: Notice of Closed Meeting.

SUMMARY: The Judges Panel of the Malcolm Baldrige National Quality Award will meet in closed session on Wednesday, June 12, 2013, 9:00 a.m. to 3:30 p.m., Eastern time. The purpose of this meeting is to discuss and review the role and responsibilities of the Judges Panel and information received from the National Institute of Standards and Technology in order to ensure the integrity of the Award selection process. The agenda will include: The Role of the Judges, Debrief of Category Recognition, Improvements to the Judging Process, Baldrige Program Updates, and the 2013 Baldrige Award Cycle.

DATES: The meeting will convene on Wednesday, June 12, 2013, 9:00 a.m. to 3:30 p.m., Eastern time. The entire meeting will be closed to the public.

ADDRESSES: The meeting will be held at the National Institute of Standards and Technology, 100 Bureau Drive, Gaithersburg, Maryland 20899.

FOR FURTHER INFORMATION CONTACT: Dr. Harry Hertz, Director, Baldrige Performance Excellence Program, National Institute of Standards and Technology, Gaithersburg, Maryland 20899, telephone number (301) 975-2361, email harry.hertz@nist.gov.

SUPPLEMENTARY INFORMATION:

Authority: 15 U.S.C. 3711a(d)(1) and the Federal Advisory Committee Act, as amended, 5 U.S.C. App.

Pursuant to the Federal Advisory Committee Act, as amended, 5 U.S.C. App., notice is hereby given that the Judges Panel of the Malcolm Baldrige National Quality Award will meet on Wednesday, June 12, 2013, 9:00 a.m. to 3:30 p.m., Eastern time. The Judges Panel is composed of twelve members, appointed by the Secretary of Commerce, chosen for their familiarity with quality improvement operations and competitiveness issues of manufacturing companies, services companies, small businesses, health care providers, and educational institutions. Members are also chosen who have broad experience in for-profit and nonprofit areas. The Judges Panel will assemble to discuss and review the role and responsibilities of the Judges Panel and information received from the National Institute of Standards and Technology in order to ensure the integrity of the Malcolm Baldrige National Quality Award selection process. The agenda will include: The Role of the Judges, Debrief of Category Recognition, Improvements to the Judging Process, Baldrige Program Updates, and the 2013 Baldrige Award Cycle.

The Senior Advisor to the Deputy Secretary performing the non-exclusive duties of the Chief Financial Officer and Assistant Secretary for Administration, with the concurrence of the General Counsel, formally determined on March 19, 2013, pursuant to Section 10(d) of the Federal Advisory Committee Act, as amended by Section 5(c) of the Government in Sunshine Act, Public Law 94-409, that the meeting of the Judges Panel may be closed in accordance with 5 U.S.C. 552b(c)(4) because the meeting is likely to disclose trade secrets and commercial or financial information obtained from a person which is privileged or confidential and 5 U.S.C. 552b(c)(9)(B) because for a government agency the meeting is likely to disclose information that could significantly frustrate implementation of a proposed agency action. The meeting, which involves examination of Award applicant data from U.S. companies and other organizations and a discussion of these data as compared to the Award criteria in order to recommend Award recipients, will be closed to the public.

Dated: May 16, 2013.
Phillip Singerman,
Associate Director for Innovation & Industry Services.

[FR Doc. 2013-12330 Filed 5-22-13; 8:45 am]

BILLING CODE 3510-13-P